DEPARTMENT OF COMMERCE

National Oceanic and Atmospheric Administration

[RTID 0648-XF140]

Endangered and Threatened Species; Take of Anadromous Fish

AGENCY: National Marine Fisheries Service (NMFS), National Oceanic and Atmospheric Administration (NOAA), Department of Commerce.

ACTION: Notification; determination on hatchery and genetics management plans.

SUMMARY: NMFS has evaluated plans for three hatchery programs rearing and releasing Chinook, coho, and pink salmon in the Dungeness River basin, submitted by the Jamestown S'Klallam Tribe and Washington Department of Fish and Wildlife (WDFW) as co-managers pursuant to the limitation on take prohibitions for actions conducted under the Endangered Species Act (ESA). The plans describe hatchery programs operated by the co-managers. This document serves to notify the public of the availability of an Evaluation and Recommended Determination Document (ERD) in which NMFS, by delegated authority from the Secretary of Commerce, has determined that implementing and enforcing these hatchery and genetics management plans (HGMPs) will not appreciably reduce the likelihood of survival and recovery nor modify or destroy critical habitat of Puget Sound Chinook salmon or Puget Sound steelhead.

FOR FURTHER INFORMATION CONTACT: Morgan Robinson, (253) 307-2670, morgan.robinson@noaa.gov.

SUPPLEMENTARY INFORMATION:

ESA-Listed Species Covered in This Notice

• Puget Sound Chinook salmon (Oncorhynchus tshawytscha): threatened, naturally and artificially propagated;

• Puget Sound Steelhead (O. mykiss): threatened, naturally and artificially propagated.

Background

The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The operator, WDFW, collaborating with tribal co-manager Jamestown S'Klallam Tribe, have submitted HGMPs to NMFS pursuant to 50 CFR 223.203(b)(6) for hatchery activities in the Dungeness River basin, Washington. The Chinook, coho, and pink salmon hatchery programs will be operated at Dungeness and Hurd Creek Hatcheries. As required, NMFS took public comments on its recommended determination for how the HGMPs address the criteria in 50 CFR 223.203(b)(5) prior to making its final determination.

Discussion of the Biological Analysis Underlying the Determination

NMFS's West Coast Region's Sustainable Fishery Division (SFD) has analyzed the HGMPs' proposed hatchery operations, along with conservation measures and monitoring plan described therein. The hatchery programs are designed to contribute to the survival and recovery of Dungeness River Chinook salmon and provide salmon for harvest augmentation purposes. These hatchery programs are intended to contribute to fulfilling federal tribal treaty rights affirmed in United States v. Washington (1974) by enhancing future fishing opportunities for Chinook, coho, and chum salmon. Included in the hatchery plans are research and monitoring activities to study the effect of the programs on the recovery of Puget Sound Chinook salmon and steelhead.

We have concluded that adherence to the components of these HGMPs would provide effective protection to the Dungeness Chinook salmon and steelhead populations. Implementation of the hatchery programs as described would not jeopardize the Puget Sound Chinook Salmon Evolutionary Significant Unit (ESU) or the Puget Sound Steelhead Distinct Population Segment (DPS) based on parameters defining a viable salmonid population in terms of overall abundance and productivity, as well as the diversity and spatial structure of the populations within the Dungeness River basin and the role of the populations to the larger ESU or DPS. The HGMPs will provide for the proposed harvest opportunities while not appreciably slowing any listed population's achievement of viable function or appreciably reducing the likelihood of the survival and recovery of the Puget Sound Chinook salmon ESU and Puget Sound Steelhead DPS.

NMFS' determination on these three HGMPs depends upon implementation of all of the monitoring, evaluation, reporting tasks or assignments, and enforcement activities included within. Reporting and inclusion of new information derived from research, monitoring, and evaluation activities described within will provide assurance that performance standards will be achieved in future seasons. NMFS' evaluation is available on the West Coast Region website at: https://www.fisheries.noaa.gov/action/dungeness-hatcheries-plans.

Summary of Comments Received in the Response to the Proposed Evaluation and Pending Determination

NMFS published notice of its Proposed Evaluation and Pending Determination (PEPD) on the plan for public review and comment on July 28, 2022 (87 FR 45301). The PEPD was available for public review and comment for 30 days. During the public comment period, no comments were received.

Classification

Under section 4 of the ESA, the Secretary of Commerce is required to adopt such regulations as deemed necessary and advisable for the conservation of species listed as threatened. The ESA salmon and steelhead 4(d) rule (50 CFR 223.203(b)) specifies categories of activities that contribute to the conservation of listed salmonids and sets out the criteria for such activities. The rule further provides that the prohibitions of paragraph (a) of the rule do not apply to actions undertaken in compliance with a plan developed jointly by a state and a tribe and determined by NMFS to be in accordance with the salmon and steelhead 4(d) Rule (65 FR 42422, July 10, 2000).

Authority: 16 U.S.C. 1531 et seq.; 16 U.S.C. 742a et seq.

Dated: August 22, 2025.
Jennifer Quan,
Regional Administrator, West Coast Region, National Marine Fisheries Service.

[FR Doc. 2025-16429 Filed 8-26-25; 8:45 am]

BILLING CODE 3510-22-P